DEPARTMENT OF JUSTICE

Antitrust Division

Notice Pursuant to the National Cooperative Research and Production Act of 1933—Gaming Standards Association

Notice is hereby given that, on January 27, 2004, pursuant to section 6(a) of the National Cooperative Research and Production Act of 1993, 15 U.S.C. 4301 et seq. (“the Act”), the Gaming Standards Association (“GSA”) has filed written notifications simultaneously with the Attorney General and the Federal Trade Commission disclosing changes in its membership status. The notifications were filed for the purpose of extending the Act's provisions limiting the recovery of antitrust plaintiffs to actual damages under specified circumstances. Specifically, Casino Technology AD, Sofia, Bulgaria; Flint & K, Inc., Moscow, Russia; Gaming Laboratories International, Inc., Lakewood, NJ, GTECH Corporation, West Greenwich, RI; Hyatt Gaming Services LLC, Chicago, IL; International Currency Technology (ICT), Taipei, Taiwan; Loto-Quebec , Montreal, Quebec, Canada; Molex Incorporated, Lisle, IL; Multi-State Lottery Association (MUSL), West Des Moines, IA; Octavian International LTD, Guildford, Surrey, United Kingdom; Renaissance Casino Solutions, Henderson, NV; R. Franco USA, Phoenix, AZ; and Seminole Tribe of Florida, Hollywood, FL have been added as parties to this venture. Also, Acres Gaming, Las Vegas, NV; Austrian Gaming Industries GmbH, Lower Austria, Austria; Cyberview Technologies, Inc., Las Vegas, NV; IDX, Inc., El Dorado, AZ; Shuffle Master Gaming, Inc., Las Vegas, NV; Sierra Design Group, Reno, NV; and Station Casinos, Las Vegas, NV have been dropped as parties to this venture.

No other changes have been made in either the membership or planned activity of the group research project. Membership in this group research project remains open, and GSA intends to file additional written notification disclosing all changes in membership.

On March 6, 2003, GSA filed its original notification pursuant to section 6(a) of the Act. The Department of Justice published a notice in the Federal Register pursuant to section 6(b) of the Act on April 1, 2003 (68 FR 15743).

The last notification was filed with the Department on July 8, 2003. A notice was published in the Federal Register pursuant to section 6(b) of the Act on August 4, 2003 (68 FR 45855).

Dorothy B. Fountain,
Deputy Director of Operations, Antitrust Division.

[FR Doc. 04-4843 Filed 3-3-04; 8:45 am]

BILLING CODE 4410-11-M